DEPARTMENT OF COMMERCE

National Oceanic and Atmospheric Administration

[I.D. 120904B]

Pacific Fishery Management Council; Notice of Public Meeting

AGENCY: National Marine Fisheries Service (NMFS), National

Oceanic and Atmospheric Administration (NOAA), Commerce.

ACTION: Notice of Vessel Monitoring System public meetings.

SUMMARY: On November 4, 2003, a final rule implementing a pilot vessel monitoring system (VMS) Program for the Pacific Coast groundfish fishery was published in the Federal Register (68 FR 62374). The VMS requirements became effective January 1, 2004, for vessels registered to limited entry groundfish permits. The Pacific Fishery Management Council (Council) is considering expansion of the VMS program into the open access groundfish fisheries. VMS requirements are being considered for both directed open access groundfish vessels and vessels in other target fisheries that incidentally take and retain groundfish in Federal waters (seaward of 3 nm). VMS coverage for vessels that fish only in state waters is not being considered at this time.

DATES: For specific dates and times of the public meetings, see SUPPLEMENTARY INFORMATION.

FOR FURTHER INFORMATION CONTACT: Becky Renko 206-526-6110, becky.renko@noaa.gov, or Dayna Mathews 360-753-4409 dayna.mathews@noaa.gov.

SUPPLEMENTARY INFORMATION:

Dates, Times and Locations of Meetings

January 10, 2005, 7 p.m., Salmon Troller's Hall, 19292 South Harbor Drive, Fort Bragg, CA.

January 11, 2005, 7 p.m., Community Center Auditorium, 1001 Kennedy Way, Morro Bay. Morro Bay, CA.

January 12, 2005, 7 p.m. California Department of Fish and Game, Los Alamitos Field Office and Laboratory, 4665 Lampson Ave., Suite C, Los Alamitos, CA.

January 25, 2005 6 p.m., Ocasta High School, 2580 Montesano Street South, Westport, WA.

January 31, 2005, 6 p.m., Hatfield Marine Science Center, Room 32, 2040 SE Marine Science Drive, Newport, OR.

February 1, 2005, 6 p.m., Oregon State University, Seafood Laboratory, 2021 Marine Drive, Astoria, OR, and

February 7, 2005, 6 p.m., Gable Chambers at City Hall, 555 W. 20th St. Port Orford, OR.

In 2003, the Council began using depth-based management for commercial and recreational groundfish fishing in order to avoid harvest of overfished groundfish species. Depth-based management allows or disallows fishing in certain depth zones. Depth-based management can be difficult to enforce with limited state and Federal enforcement resources. To improve the enforceability of depth-based management areas, the NMFS implemented a vessel monitoring program on January 1, 2004.

Vessels registered to limited entry permits are currently required to carry and use a VMS transceiver unit and to provide declaration reports before fishing with allowed gear in areas with depth-based fishing regulations. At this time, open access exempted trawl and tribal trawl vessels are also required to provide declaration reports before fishing with allowed gear in areas with depth-based fishing regulations. While VMS creates additional costs and responsibilities for both managers and fishermen, it allows more fishing than would otherwise be possible using traditional enforcement tools. VMS uses electronic transmitters, placed on fishing vessels, to transmit information about a vessel's position to a communications provider via satellite, where it is relayed to NMFS enforcement. This allows someone on land, monitoring such transmissions, to determine if a vessel is in a closed area.

Issues related to the implementation of VMS include the variety of VMS equipment and associated costs, the vessels's physical ability to carry VMS, VMS operating requirements, vessel coverage (the portion of the fleet that is required to carry and use VMS), and coordination with traditional enforcement techniques. Because most of these issues were addressed during the initial implementation of VMS, they are not being addressed at this time. The only issue currently being considered is the level of coverage necessary for the open access fisheries.

VMS Implementation Timeline

Between September and December 2002, the Council's Enforcement Consultants group recommended VMS equipment requirements, identified approximate fleet sizes for fishing sectors likely to be considered for VMS units, and estimated the cost associated with purchase, installation, and operation of VMS. In November 2002, the Council made recommendations to NMFS regarding vessel coverage, costs, and gear regulations.

In 2003, NMFS prepared a proposed rule for a pilot VMS program for the limited entry fleet. The proposed rule was published in the Federal Register on May 22, 2003 (68 FR 27972). On November 4, 2003, the final rule implementing the pilot VMS program in 2004 was published in the Federal Register (68 FR 62374). A list of approved VMS units was published in the Federal Register on November 17, 2003 (68 FR 64860). At its November 2003 meeting the Council considered expansion of the VMS program into other sectors of the groundfish fishery. However, the Council delayed a decision about program expansion until the pilot program was fully implemented in 2004.

At the June 2004 Council meeting, NMFS reported on the successful implementation of the VMS program in the limited entry fisheries and the associated telephone declaration system. Nearly 300 VMS units have been activated, generating more than 1.6 million position reports in conjunction with over 800 declaration reports. At its September 2004 meeting, the Council reviewed a range of alternatives for program expansion. Incorporating comments from the Groundfish Advisory Subpanel and the public, the Council adopted a range of alternatives for expanding the VMS program into the open access groundfish fisheries. The alternatives being considered focus on directed open access groundfish vessel, but also include vessels in other target fisheries that incidentally take and retain groundfish in Federal waters (seaward of 3 nm). Vessels that only fish in state waters are not being considered for this program.

To allow time for public review of the alternatives, the Council has delayed action on expanding the VMS program until the April 2005 Council meeting, and has recommended an October 1, 2005 implementation date. The purpose of these public meetings is for NMFS to provide the interested public with information regarding the expansion of VMS into the open access fisheries in Federal waters.

Special Accommodations

These meetings are accessible to people with physical disabilities. Requests for sign language interpretation or other auxiliary aids should be directed to Becky Renko (206) 526-6110 (voice) or (206) 526-6736 (fax), at least 5 working days prior to the scheduled meeting date.

Dated: December 10, 2004.
Alan D. Risenhoover,
Acting Director, Office of Sustainable Fisheries, National Marine Fisheries Service.

[FR Doc. 04-27562 Filed 12-15-04; 8:45 am]

BILLING CODE 3510-22-S